INTERNATIONAL TRADE COMMISSION

[Investigation No. 332-599]

Distributional Effects of Trade and Trade Policy on U.S. Workers, 2026 Report

AGENCY: United States International Trade Commission.

ACTION: Notice of termination of investigation.

SUMMARY: On February 4, 2025, the Commission received a letter from the Office of the U.S. Trade Representative (USTR) withdrawing its request made on January 25, 2023, that the Commission prepare a series of public reports on the potential distributional effects of goods and services trade and trade policy on U.S. workers and underrepresented and underserved communities. Therefore, the Commission has terminated Investigation No. 332-599, “Distributional Effects of Trade and Trade Policy on U.S. Workers, 2026 Report”, and will not release a report related to this investigation. The USTR requested the investigation and report under authority delegated by the President and pursuant to section 332(g) of the Tariff Act of 1930.

DATES:

January 25, 2023: Receipt of request for the investigation.

February 4, 2025: Receipt of letter withdrawing request for the investigation.

February 10, 2025: Termination of investigation.

FOR FURTHER INFORMATION CONTACT: Jennifer Andberg, Office of External Relations (jennifer.andberg@usitc.gov or 202-205-3404). Hearing-impaired individuals are advised that information on this matter can be obtained by contacting the Commission's TDD terminal on 202-205-1810. General information concerning the Commission may also be obtained by accessing its website (https://www.usitc.gov).

SUPPLEMENTARY INFORMATION:

Background: The Commission had instituted Investigation No. 332-599 under section 332(g) of the Tariff Act of 1930 (19 U.S.C. 1332(g)). See 88 FR 45922 (July 18, 2023).

By order of the Commission.
Issued: February 11, 2025.
Lisa Barton,
Secretary to the Commission.

[FR Doc. 2025-02632 Filed 2-13-25; 8:45 am]

BILLING CODE 7020-02-P